DEPARTMENT OF AGRICULTURE

Rural Telephone Bank

Confirmation of Stock Ownership Records

AGENCY: Rural Telephone Bank, USDA.

ACTION: Notice of confirmation of stock ownership records for the Rural Telephone Bank.

SUMMARY: The Rural Telephone Bank (Bank) has sent letters to all of its stockholders of record, asking them to confirm their stockholdings. This notice is being published to notify any persons who believe that they own shares of stock in the Bank but have not received a stock confirmation letter that they should contact the Bank immediately.

FOR FURTHER INFORMATION CONTACT: Jonathan P. Claffey, Assistant Secretary, Rural Telephone Bank, STOP 1590—Room 5151, 1400 Independence Avenue, SW., Washington, DC 20250-1590. Telephone: (202) 720-9556.

SUPPLEMENTARY INFORMATION: The Bank is in the process of studying a proposal to dissolve. The dissolution of the Bank would require the redemption of outstanding stock in accordance with its enabling legislation, Title IV of the Rural Electrification Act (7 U.S.C. 941 et seq.). As a preliminary step, the Bank has determined the stockholdings of each shareholder as of June 15, 2005. Letters were sent by the Bank to all stockholders of record on June 30, 2005, asking them to confirm that their own stock records are in agreement with the Bank's.

Since letters were sent by the Bank to all its shareholders, any persons who believe that they own shares of stock in the Bank but have not received a stock confirmation letter should contact the Bank immediately. A letter explaining the details of the claimed stockholdings should be sent to Jonathan Claffey, Assistant Secretary of the Bank, at the address shown above. Any evidence supporting the claimed stockholdings should be included with the letter. Claims should be submitted within 30 days of this notice.

Dated: July 11, 2005.
Jonathan P. Claffey,
Assistant Secretary, Rural Telephone Bank.

[FR Doc. 05-13944 Filed 7-14-05; 8:45 am]

BILLING CODE 3410-15-P